COMMITTEE FOR PURCHASE FROM PEOPLE WHO ARE BLIND OR SEVERELY DISABLED

Procurement List; Proposed Deletions

AGENCY: Committee for Purchase From People Who Are Blind or Severely Disabled.

ACTION: Proposed Deletions From the Procurement List.

SUMMARY: The Committee is proposing to delete from the Procurement List services previously provided by nonprofit agencies employing persons who are blind or have other severe disabilities.

Comments Must Be Received on or Before: 5/3/2010.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Food Service Attendant, Whiting Field Naval Air Station, Milton, FL.

NPA: UNKNOWN.

Contracting Activity: DEPT OF THE NAVY, U S FLEET FORCES COMMAND, NORFOLK, VA.

Service Type/Location: Document Image Conversion, U.S. Department of Housing & Urban Development, Richard B. Russell Federal Building, Atlanta, GA.

NPA: Tommy Nobis Enterprises, Inc., Marietta, GA.

Contracting Activity: DEPARTMENT OF HOUSING AND URBAN DEVELOPMENT, OFFICE OF PROCUREMENT & CONTRACTS, WASHINGTON, DC.

Service Type/Location: Janitorial/Custodial, Federal Aviation Administration, ATC Standiford Field, Airway Facilities Sector Field Office, Louisville, KY.

NPA: C.G.M. Services, Inc., Louisville, KY.

Contracting Activity: DEPARTMENT OF TRANSPORTATION, SAINT LAWRENCE SEAWAY DEVELOPMENT CORP, MASSENA, NY.

Service Type/Location: Grounds Maintenance, Lexington Blue Grass Army Depot: Blue Grass Activity, Richmond, KY, Lexington Activity, Avon, KY.

NPA: UNKNOWN.

Contracting Activity: DEPT OF THE ARMY, XR W40M NATL REGION CONTRACT OFC, WASHINGTON, DC.

Barry S. Lineback,
Director, Business Operations.

[FR Doc. 2010-7481 Filed 4-1-10; 8:45 am]

BILLING CODE 6353-01-P